DEPARTMENT OF VETERANS AFFAIRS

Advisory Committee: National Academic Affiliations Council; Notice of Meeting

The Department of Veterans Affairs (VA) gives notice under the Federal Advisory Committee Act that a meeting of the National Academic Affiliations Council (NAAC) will be held April 3, 2018-April 4, 2018 at 811 Vermont Avenue NW, VA Office of Academic Affiliations Conference Room, 4th Floor, Washington DC The meeting sessions are open to the public and are scheduled as follows:

Dates | Time
April 3, 2018 | 8:15 a.m. to 5:00 p.m.
April 4, 2018 | 8:30 a.m. to 2:30 p.m.

The purpose of the Council is to advise the Secretary on matters affecting partnerships between VA and its academic affiliates.

On April 3, 2018, the Council will review the status of its previous recommendations and receive a series of informational briefings on the budget of the VA Office of Academic Affiliations and the Veterans Equitable Resource Allocation formula for clinical educational activities. During a working lunch, NAAC members will meet with the Chair of the National Research Advisory Council to discuss areas of mutual interest among both committees. During the afternoon, the Council will explore the recent activities of the NAAC Diversity and Inclusion Subcommittee and VA's current affiliations with minority serving institutions. At the close of the day, The Council will receive a presentation on VA's Care in the Community efforts and discuss their potential impact on the VA education mission.

On April 4, 2018, the Council will receive presentations on VA's ongoing efforts to ensure the accountability and oversight of graduate medical education funds and the Office of Academic Affiliations' innovation portfolio. After lunch, the Council will have an open discussion with Dr. Carolyn Clancy, the Executive in Charge for the Veterans Health Administration and Dr. Christopher Vojta, the Principal Deputy Under Secretary for Health. The Council will receive public comments from 4:45 p.m. to 5:00 p.m. on April 3, 2018 and again at or before 2:00 p.m. to 2:15 p.m. on April 4, 2018.

Interested persons may attend and present oral statements to the Council. A sign-in sheet for those who want to give comments will be available at the meeting. Individuals who speak are invited to submit a 1-2 page summary of their comments at the time of the meeting for inclusion in the official meeting record. Oral presentations will be limited to five minutes or less, depending on the number of participants. Interested parties may also provide written comments for review by the Council prior to the meeting or at any time, via email to, Steve.Trynosky@va.gov, or by mail to Stephen K. Trynosky JD, MPH, MMAS, Designated Federal Officer, Office of Academic Affiliations (10A2D), 810 Vermont Avenue NW, Washington, DC 20420. Any member of the public wishing to attend or seeking additional information should contact Mr. Trynosky via email or by phone at (202) 461-6723. Because the meeting will be held in a Government building, anyone attending must be prepared to submit to security screening and present a valid photo I.D. Please allow at least 15 minutes prior to the meeting for this process.

Dated: February 21, 2018.
Jelessa M. Burney,
Federal Advisory Committee Management Officer.

[FR Doc. 2018-03835 Filed 2-23-18; 8:45 am]

BILLING CODE P